DEPARTMENT OF THE TREASURY

Customs Service

Distribution of Continued Dumping and Subsidy Offset to Affected Domestic Producers

AGENCY: Customs Service, Department of the Treasury.

ACTION: Notice of due date for receipt of certifications.

SUMMARY: Pursuant to the Continued Dumping and Subsidy Offset Act of 2000 (CDSOA), this document gives further notice of the time within which affected domestic producers must file certifications to obtain a distribution of assessed antidumping duties or countervailing duties that were collected in Fiscal Year 2001 in connection with antidumping duty orders or findings or countervailing duty orders. This distribution under the CDSOA is known as the continued dumping and subsidy offset.

DATES: Written certifications to obtain a continued dumping and subsidy offset under a particular order or finding must be received no later than October 2, 2001.

ADDRESSES: Written certifications should be addressed to: Assistant Commissioner, Office of Regulations and Rulings, U.S. Customs Service, 1300 Pennsylvania Avenue, NW., 3rd Floor, Washington, DC 20229 (ATTN: Jeffrey J. Laxague).

FOR FURTHER INFORMATION CONTACT: Jeffrey J. Laxague, Office of Regulations and Rulings (202-927-0505).

SUPPLEMENTARY INFORMATION:

Background

Pursuant to the Continued Dumping and Subsidy Offset Act of 2000 (CDSOA) (19 U.S.C. 1675c), Customs published in the Federal Register (66 FR 40782) on August 3, 2001, a notice of intention to distribute assessed antidumping or countervailing duties that were collected in Fiscal Year 2001 in connection with antidumping duty orders or findings or countervailing duty orders. The August 3, 2001, notice listed the individual antidumping duty orders or findings and countervailing duty orders, together with the affected domestic producers associated with each order or finding, who were potentially eligible to receive a distribution (known as a continued dumping and subsidy offset).

In the August 3, 2001, notice, Customs provided alternative due dates within which written certifications to claim an offset had to be filed by affected domestic producers. Specifically, it was stated that Customs would have to receive certifications to claim an offset by the later of October 2, 2001, or 10 days after the effective date of the final regulations implementing the provisions of the CDSOA. The purpose of the alternative due date was to ensure that the submission of certifications could be withheld until after a final rule document was issued which would resolve certain matters that could affect the filing of the certifications. These matters involved the public disclosure of particular information contained in the certifications and the adoption of procedures that would cover the filing of certifications both by successor companies to those listed on an order or finding and by associations on behalf of their members.

The August 3, 2001, notice further stated that the specific alternative date for the receipt of certifications would be published in the Federal Register. To this end, because the final regulations implementing the CDSOA were published in the Federal Register (66 FR 48546) as T.D. 01-68 on, and were effective as of, September 21, 2001, the operative date in this latter respect is October 1, 2001.

Accordingly, certifications submitted by affected domestic producers to claim an offset under the CDSOA must be received by Customs no later than October 2, 2001.

Dated: September 24, 2001.
Harold M. Singer,
Chief, Regulations Branch.

[FR Doc. 01-24168 Filed 9-26-01; 8:45 am]

BILLING CODE 4810-02-P